DEPARTMENT OF ENERGY

Federal Energy Regulatory Commission

[Docket No. CP02-436-000]

Northern Natural Gas Company; Notice of Application

October 10, 2002.

Take notice that on September 30, 2002, Northern Natural Gas Company (Northern), 1111 South 103rd Street, Omaha, Nebraska 68124-1000, filed in the above referenced docket, an application pursuant to section 7(c) of the Natural Gas Act (NGA) and Part 157 of the Commission's Rules and Regulations for a certificate of public convenience to construct and operate certain compression, pipeline, and town border station (TBS) facilities, with appurtances, located in various counties in Minnesota in order to expand the capacity of Northern's Market Area facilities (Project MAX), all as more fully described in the application. This application is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 502-8659.

Specifically, Northern seeks authority to construct and operate: (1) Modifications at its Farmington Compressor Station located in Dakota County, Minnesota; (2) mainline modifications at the end of its 30-inch C-Line located in Washington County, Minnesota; (3) approximately 4.6 miles of 8-inch loop on its Alexandria branchline located in Morrison County, Minnesota; (4) a new branchline electric compressor station located near Popple Creek, Minnesota; and, (5) modifications at ten existing TBSs located in Douglas, Wright, Stearns, Dakota, Pope, and Sherburne Counties, Minnesota. The incremental capacity created by the subject facilities will be used to serve Northern's high priority residential, commercial, and industrial customers in its Market Area. The proposed construction and operation will increase the peak day capacity of Northern's Market Area mainline by approximately 16,200 Mcf per day (Mcf/d). Northern states that the total estimated capital cost for the proposed facilities is $5,833,952.

Northern requests that the Commission issue an order granting approval of the subject facilities by no later than May 1, 2003 in order to ensure an in-service date of November 1, 2003.

Any questions regarding the application should be directed to Mary Kay Miller, Vice President, Rates & Certificates, Northern Natural Gas Company, P.O. Box 3330, Omaha, Nebraska 68103-0330, telephone (402) 398-7060 or Michael T. Loeffler, Director Certificates and Community Relations, Northern Natural Gas Company, P.O. Box 3330, Omaha, Nebraska 68103-0330, telephone (402) 398-7103.

There are two ways to become involved in the Commission's review of this project. First, any person wishing to obtain legal status by becoming a party to the proceedings for this project should, on or before October 31, 2002, file with the Federal Energy Regulatory Commission, 888 First Street, NE, Washington, DC 20426, a motion to intervene in accordance with the requirements of the Commission's rules of practice and procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-26385 Filed 10-16-02; 8:45 am]

BILLING CODE 6717-01-P